DEPARTMENT OF TRANSPORTATION

Federal Aviation Administration

14 CFR Part 39

[Docket No. FAA-2011-0306; Directorate Identifier 2010-NM-176-AD; Amendment 39-16829; AD 2011-21-06]

RIN 2120-AA64

Airworthiness Directives; BAE SYSTEMS (Operations) Limited Model 4101 Airplanes

AGENCY: Federal Aviation Administration (FAA), Department of Transportation (DOT).

ACTION: Final rule.

SUMMARY: We are superseding an existing airworthiness directive (AD) that applies to the products listed above. This AD results from mandatory continuing airworthiness information (MCAI) originated by an aviation authority of another country to identify and correct an unsafe condition on an aviation product. The MCAI describes the unsafe condition as:

* * * BAE Systems (Operations) Ltd has issued Revision 33 of the AMM [airplane maintenance manual] to amend Chapter 05-10-10 by adding one new Structurally Significant Item (SSI) and increasing the repeat inspection period on another SSI. Failure to comply with this revision constitutes an unsafe condition.

* * * * *

The unsafe condition is failure of certain structurally significant items, including the main landing gear and the nose landing gear, which could result in reduced structural integrity of the airplane; and fuel vapor ignition sources, which could result in a fuel tank explosion and consequent loss of the airplane. We are issuing this AD to require actions to correct the unsafe condition on these products.

DATES: This AD becomes effective November 23, 2011.

The Director of the Federal Register approved the incorporation by reference of certain publications listed in this AD as of November 23, 2011.

The Director of the Federal Register previously approved the incorporation by reference of certain other publications listed in this AD as of June 11, 2009 (74 FR 21246, May 7, 2009).

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

We issued a notice of proposed rulemaking (NPRM) to amend 14 CFR part 39 to include an AD that would apply to the specified products. That NPRM was published in the Federal Register on April 8, 2011 (76 FR 19716), and proposed to supersede AD 2009-10-02, Amendment 39-15897 (74 FR 21246, May 7, 2009). That NPRM proposed to correct an unsafe condition for the specified products. The MCAI states:

The Jetstream J41 Aircraft Maintenance Manual (AMM), includes the following chapters:

—05-10-10 “Airworthiness Limitations”,

—05-10-20 “Certification Maintenance Requirements”, and,

—05-10-30 “Critical Design Configuration Control Limitations (CDCCL)—Fuel System.”

Compliance with these chapters has been identified as mandatory actions for continued airworthiness and EASA AD 2009-0052 was issued to require operators to comply with those instructions.

Since the issuance of that AD, BAE Systems (Operations) Ltd has issued Revision 33 of the AMM to amend Chapter 05-10-10 by adding one new Structurally Significant Item (SSI) and increasing the repeat inspection period on another SSI. Failure to comply with this revision constitutes an unsafe condition.

For the reasons described above, this [EASA] AD, which supersedes EASA AD 2009-0052, requires the implementation of the new or more restrictive maintenance requirements and/or airworthiness limitations as specified in the defined parts of Chapter 05 of the AMM at Revision 33.

The unsafe condition is failure of certain structurally significant items, including the main landing gear and the nose landing gear, which could result in reduced structural integrity of the airplane; and fuel vapor ignition sources, which could result in a fuel tank explosion and consequent loss of the airplane. You may obtain further information by examining the MCAI in the AD docket.

Comments

We gave the public the opportunity to participate in developing this AD. We received no comments on the NPRM (76 FR 19716, April 8, 2011) or on the determination of the cost to the public.

Revised Aircraft Maintenance Manual (AMM)

Since issuance of the NPRM (76 FR 19716, April 8, 2011), we have reviewed Subjects 05-10-10, “Airworthiness Limitations”; 05-10-20, “Certification Maintenance Requirements”; and 05-10-30, “Critical Design Configuration Control Limitations (CDCCL)—Fuel System”; of Chapter 05, “Airworthiness Limitations”, of the BAE Systems (Operations) Limited Jetstream Series 4100 AMM, Revision 35, dated February 15, 2011. We have revised paragraph (i) of this AD to reference this revision.

We have also added paragraph (j) to this AD to give credit for Subjects 05-10-10, “Airworthiness Limitations”; 05-10-20, “Certification Maintenance Requirements”; and 05-10-30, “Critical Design Configuration Control Limitations (CDCCL)—Fuel System”; of Chapter 05 “Airworthiness Limitations,” of the BAE Systems (Operations) Limited Jetstream Series 4100 AMM, Revision 33, dated February 15, 2010.

Conclusion

We reviewed the available data, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 3 products of U.S. registry.

The actions that are required by AD 2009-10-02 (74 FR 21246, May 7, 2009) and retained in this AD take about 1 work-hour per product, at an average labor rate of $85 per work-hour. Required parts cost about $85 per product. Based on these figures, the estimated cost of the currently required actions is $85 per product.

We estimate that it will take about 1 additional work-hour per product to comply with the new basic requirements of this AD. The average labor rate is $85 per work-hour. Based on these figures, we estimate the cost of this AD to the U.S. operators to be $255, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 19716, April 8, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15897 (74 FR 21246, May 7, 2009) and adding the following new AD:

2011-21-06 BAE SYSTEMS (Operations) Limited: Amendment 39-16829. Docket No. FAA-2011-0306; Directorate Identifier 2010-NM-176-AD.

Effective Date

(a) This airworthiness directive (AD) becomes effective November 23, 2011.

Affected ADs

(b) This AD supersedes AD 2009-10-02, Amendment 39-15897 (74 FR 21246, May 7, 2009).

Applicability

(c) This AD applies to all BAE SYSTEMS (Operations) Limited Model 4101 airplanes, certificated in any category.

Note 1: This AD requires revisions to certain operator maintenance documents to include new actions (e.g., inspections) and/or Critical Design Configuration Control Limitations (CDCCLs). Compliance with these actions and/or CDCCLs is required by 14 CFR 91.403(c). For airplanes that have been previously modified, altered, or repaired in the areas addressed by this AD, the operator may not be able to accomplish the actions described in the revisions. In this situation, to comply with 14 CFR 91.403(c), the operator must request approval of an alternative method of compliance (AMOC) according to paragraph (l) of this AD. The request should include a description of changes to the required actions that will ensure the continued operational safety of the airplane.

Subject

(d) Air Transport Association (ATA) of America Code 05.

Reason

(e) The mandatory continuing airworthiness information (MCAI) states:

* * * BAE Systems (Operations) Ltd has issued Revision 33 of the AMM [airplane maintenance manual] to amend Chapter 05-10-10 by adding one new Structurally Significant Item (SSI) and increasing the repeat inspection period on another SSI. Failure to comply with this revision constitutes an unsafe condition.

* * * * *

The unsafe condition is failure of certain structurally significant items, including the main landing gear and the nose landing gear, which could result in reduced structural integrity of the airplane; and fuel vapor ignition sources, which could result in a fuel tank explosion and consequent loss of the airplane.

Compliance

(f) You are responsible for having the actions required by this AD performed within the compliance times specified, unless the actions have already been done.

Restatement of Requirements of AD 2009-10-02, Amendment 39-15897 (74 FR 21246, May 7, 2009)

Revise Airworthiness Limitations Section (AWL) of Instructions for Continued Airworthiness

(g) Within 90 days after June 11, 2009 (the effective date of AD 2009-10-02, Amendment 39-15897 (74 FR 21246, May 7, 2009)): Revise the AWL section of the Instructions for Continued Airworthiness by incorporating the instructions of Subjects 05-10-10, “Airworthiness Limitations,” 05-10-20, “Certification Maintenance Requirements,” and 05-10-30, “Critical Design Configuration Control Limitations (CDCCL)—Fuel System,” of Chapter 05, “Airworthiness Limitations,” of the BAE Systems (Operations) Limited Jetstream Series 4100 Airplane Maintenance Manual (AMM), Revision 31, dated February 15, 2009. Thereafter, except as provided in paragraph (l) of this AD, no alternative replacement times or inspection intervals may be approved for any affected component. Doing the actions required by paragraph (i) of this AD terminates the requirements of this paragraph.

(h) Where paragraph 2.A.(2) of Subject 05-10-10, “Airworthiness Limitations,” of Chapter 05, “Airworthiness Limitations,” of the BAE Systems (Operations) Limited Jetstream Series 4100 AMM, Revision 31, dated February 15, 2009, specifies that certain landing gear units “must be removed before 31st March 2008,” this AD requires compliance within 60 days after June 11, 2009.

New Requirements of This AD With Revised Service Information

Maintenance Program Revision

(i) Within 90 days after the effective date of this AD: Revise the maintenance program by incorporating Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited Jetstream Series 4100 AMM, Revision 35, dated February 15, 2011. Doing the actions required by this paragraph terminates the requirements of paragraph (g) of this AD. The initial compliance times for the tasks are at the applicable times specified in paragraphs (i)(1), (i)(2), and (i)(3) of this AD.

(1) For replacement tasks of life limited parts specified in Subject 05-10-10, “Airworthiness Limitations,” of Chapter 05, “Airworthiness Limitations,” of the BAE Systems (Operations) Limited Jetstream Series 4100 AMM, Revision 35, dated February 15, 2011: Prior to the applicable flight cycles (landings) or flight hours (flying hours) on the part specified in the “Mandatory Life Limits” column in Subject 05-10-10, or within 90 days after the effective date of this AD, whichever occurs later.

(2) For structurally significant item tasks specified in Subject 05-10-10, “Airworthiness Limitations,” of Chapter 05, “Airworthiness Limitations,” of the BAE Systems (Operations) Limited Jetstream Series 4100 AMM, Revision 35, dated February 15, 2011: Prior to the accumulation of the applicable flight cycles specified in the “Initial Inspection” column in Subject 05-10-10, or within 90 days after the effective date of this AD, whichever occurs later.

(3) For certification maintenance requirements tasks specified in Subject 05-10-20, “Certification Maintenance Requirements,” of Chapter 05, “Airworthiness Limitations,” of the BAE Systems (Operations) Limited Jetstream Series 4100 AMM, Revision 35, dated February 15, 2011: Prior to the accumulation of the applicable flight hours specified in the “Time Between Checks” column in Subject 05-10-20, or within 90 days after the effective date of this AD, whichever occurs later; except for tasks that specify “first flight of the day” in the “Time Between Checks” column in Subject 05-10-20, the initial compliance time is the first flight of the next day after doing the revision required by paragraph (i) of this AD, or within 90 days after the effective date of this AD, whichever occurs later.

Credit for Actions Accomplished in Accordance With Previous Service Information

(j) Actions done before the effective date of this AD in accordance with Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited Jetstream Series 4100 AMM, Revision 33, dated February 15, 2010; are acceptable for compliance with the requirements of paragraph (i) of this AD.

No Alternative Actions, Intervals, and/or CDCCLs

(k) After accomplishing the revision required by paragraph (i) of this AD, no alternative actions (e.g., inspections), intervals, and/or CDCCLs may be used unless the actions, intervals, and/or CDCCLs are approved as an alternative method of compliance (AMOC) in accordance with the procedures specified in paragraph (l) of this AD.

FAA AD Differences

Note 2: This AD differs from the MCAI and/or service information as follows: Although EASA Airworthiness Directive 2010-0098, dated May 27, 2010, specifies both revising the maintenance program to include limitations, and doing certain repetitive actions (e.g., inspections) and/or maintaining CDCCLs, this AD only requires the revision. Requiring a revision of the maintenance program, rather than requiring individual repetitive actions and/or maintaining CDCCLs, requires operators to record AD compliance only at the time the revision is made. Repetitive actions and/or maintaining CDCCLs specified in the airworthiness limitations must be complied with in accordance with 14 CFR 91.403(c).

Other FAA AD Provisions

(l) The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue, SW., Renton, Washington 98057-3356; telephone (425) 227-1175; fax (425) 227-1149. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(m) Refer to Mandatory Continuing Airworthiness Information (MCAI) European Aviation Safety Agency (EASA) Airworthiness Directive 2010-0098, dated May 27, 2010; Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited Jetstream Series 4100 AMM, Revision 31, dated February 15, 2009; and Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited Jetstream Series 4100 AMM, Revision 35, dated February 15, 2011; for related information.

Material Incorporated by Reference

(n) You must use the following service information to do the applicable actions required by this AD, unless the AD specifies otherwise.

(1) The Director of the Federal Register approved the incorporation by reference (IBR) of Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited Jetstream Series 4100 AMM, Revision 35, dated February 15, 2011; under 5 U.S.C. 552(a) and 1 CFR part 51 on November 23, 2011. Page 1 of the Publications Transmittal of the BAE Systems (Operations) Limited Jetstream Series 4100 AMM is the only page that shows the revision level of this document.

(2) The Director of the Federal Register previously approved the incorporation by reference of Subjects 05-10-10, “Airworthiness Limitations”; 05-10-20, “Certification Maintenance Requirements”; 05-10-30, “Critical Design Configuration Control Limitations (CDCCL)—Fuel System”; of Chapter 05, “Airworthiness Limitations,” of the BAE Systems (Operations) Limited Jetstream Series 4100 AMM, Revision 31, dated February 15, 2009; on June 11, 2009 (74 FR 21246, May 7, 2009).

(3) For service information identified in this AD, contact BAE SYSTEMS (Operations) Limited, Customer Information Department, Prestwick International Airport, Ayrshire, KA9 2RW, Scotland, United Kingdom; telephone +44 1292 675207; fax +44 1292 675704; e-mail RApublications@baesystems.com; Internet http://www.baesystems.com/Businesses/RegionalAircraft/index.htm.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, on September 23, 2011.
Ali Bahrami,
Manager, Transport Airplane Directorate, Aircraft Certification Service.

[FR Doc. 2011-25802 Filed 10-18-11; 8:45 am]

BILLING CODE 4910-13-P